DEPARTMENT OF COMMERCE

International Trade Administration

Renewal of the Renewable Energy and Energy Efficiency Advisory Committee and Solicitation of Nominations for Membership

AGENCY: Industry and Analysis, International Trade Administration, Department of Commerce.

ACTION: Notice of renewal of the Renewable Energy and Energy Efficiency Advisory Committee and solicitation of nominations for membership.

SUMMARY: Pursuant to provisions of the Federal Advisory Committee Act (FACA), the Department of Commerce announces the renewal of the Renewable Energy and Energy Efficiency Advisory Committee (Committee). The Committee shall advise the Secretary of Commerce regarding the development and administration of programs and policies to expand the competitiveness of U.S. exports of renewable energy and energy efficiency goods and services.

The Committee's work on renewable energy will focus on technologies, equipment, and services to generate electricity, produce heat, and power vehicles from renewable sources such as solar, wind, biomass, hydropower, geothermal, and hydrogen. The Committee's work on energy efficiency will focus on technologies, services, and platforms that provide system-level energy efficiency to electricity generation, transmission, and distribution. These include smart grid technologies and services, as well as equipment and systems that increase the resiliency of power infrastructure such as energy storage. Climate solutions in the energy sector, such as low-carbon hydrogen production, clean energy transportation, and virtual power plants are also within the scope of the Committee. For the purposes of this Committee, covered goods and services will not include vehicles, feedstock for biofuels, or energy efficiency as it relates to consumer goods or buildings. Non-fossil fuels that reduce carbon consumption (e.g., liquid biofuels and pellets) are included. This notice also requests nominations for membership.

DATES: Applications or nominations for members must be received on or before 5:00 p.m. Eastern Daylight Time (EDT) on Friday June 14, 2024. This serves as an extension of the initial deadline of May 31, 2024, as previously indicated in the April 17, 2024, Federal Register Notice at the following link: https://www.federalregister.gov/d/2024-08135. After that date, the International Trade Administration (ITA) may continue to accept nominations under this notice for one year to fill any vacancies that may arise.

ADDRESSES: Applications or nominations may be emailed to Cora.Dickson@trade.gov.

FOR FURTHER INFORMATION CONTACT: Cora Dickson, Designated Federal Officer, Renewable Energy and Energy Efficiency Advisory Committee, Office of Energy & Environmental Industries, U.S. Department of Commerce; phone 202-482-6083; email Cora.Dickson@trade.gov. Interested parties can also view Committee documents on the REEEAC website at http://trade.gov/reeeac.

SUPPLEMENTARY INFORMATION: The Committee shall consist of up to 30 members appointed by the Secretary in accordance with applicable Department of Commerce guidance and based on their ability to carry out the objectives of the Committee. Members shall represent U.S. companies, U.S. trade associations, U.S. private sector organizations, and civil society groups with activities focused on the export competitiveness of U.S. renewable energy and energy efficiency goods and services. The Committee shall also represent the range of company or organizational roles in the development of renewable energy and energy efficiency projects, including, for example, project developers, technology integrators, financial institutions, and manufacturers. Members of the Committee are selected, in accordance with applicable Department of Commerce guidelines, based on their ability to carry out the objectives of the Committee as set forth in the Charter and in a manner that ensures that the Committee is balanced in terms of points of view, industry subsector, geography, and company size. The diverse membership of the Committee assures perspectives reflecting the breadth of the Committee's responsibilities, and, where possible, the Department of Commerce will also consider the ethnic, racial, gender, sexual orientation, and gender identity diversity and various abilities of the United States population.

Members serve at the pleasure of the Secretary from the date of appointment to the Committee to the date on which the Committee's charter terminates. Members serve in a representative capacity presenting the views and interests of a U.S. entity or U.S. organization, as well as their particular subsector; they are, therefore, not Special Government Employees.

Members of the Committee must not be registered as foreign agents under the Foreign Agents Registration Act. No member may represent a company that is majority owned or controlled by a foreign government entity (or foreign government entities). Members of the Committee will not be compensated for their services or reimbursed for their travel expenses.

If you are interested in applying or nominating someone else to become a member of the Committee, please provide the following information:

(1) Sponsor letter on the company's, trade association's, or organization's letterhead containing the name, title, and relevant contact information (including phone, and email address) of the individual who is applying or being nominated;

(2) An affirmative statement that the nominee will be able to meet the expected time commitments of Committee work. Committee work includes (1) a commitment to attend quarterly committee meetings (typically, two in-person meetings lasting one day each and two virtual meetings lasting 2-4 hours each), (2) undertaking additional work outside of full committee meetings including regular participation in virtual subcommittee meetings, and (3) frequently drafting, preparing, or commenting on proposed recommendations to be evaluated at Committee meetings;

(3) Short biography of nominee, including credentials;

(4) Brief description (not brochures or other marketing collateral) of the company, trade association, or organization to be represented and its business activities, company size (number of employees and annual sales), and export markets served;

(5) An affirmative statement that the nominee meets all Committee eligibility requirements.

The attendance record of a nominated individual who has served on the Committee will be taken into consideration for reappointment. In principle, appointed Committee members should be absent from the Committee meetings (virtual or in-person) no more than once a year, for example, due to illness, family emergency, weather delays, etc. In-person meetings will not be held in a hybrid format. ITA will endeavor to announce in-person meetings sufficiently in advance for the members to adjust their travel plans or schedules accordingly.

See the ADDRESSES and DATES captions above for how and the deadline to submit nominations.

Privacy Act Statement

The collection, maintenance, and disclosure of this information is governed by the Privacy Act of 1974 (5 U.S.C. 552a). The Department of Commerce is authorized to collect this information in accordance with the Federal Advisory Committee Act, as amended (FACA), 5 U.S.C. chapter 10. The principal purpose for which the Department will use the information is to assist in choosing members of the Renewable Energy and Energy Efficiency Advisory Committee. Information received will be maintained in a Privacy Act system of records, COMMERCE/DEPT-11, entitled “Candidates for Membership, Members, and Former Members of Department of Commerce Advisory Committees.” A notice describing that system, including a complete set of routine disclosures, has been published both in the Federal Register and on the Department's website at: https://www.commerce.gov/opog/privacy/SORN/SORN-DEPT-11. Although providing this information is voluntary, an individual cannot be considered for membership without an application submission.

Public Burden Statement

A Federal agency may not conduct or sponsor, and a person is not required to respond to, nor shall a person be subject to a penalty for failure to comply with an information collection subject to the requirements of the Paperwork Reduction Act of 1995 unless the information collection has a currently valid OMB Control Number. The approved OMB Control Number for this information collection is 0625-0143. Without this approval, we could not conduct this information collection. Public reporting for this information collection is estimated to be approximately 30-60 minutes per response, including the time for reviewing instructions, searching existing data sources, gathering and maintaining the data needed, and completing and reviewing the information collection. All responses to this information collection are voluntary. Send comments regarding this burden estimate or any other aspect of this information collection, including suggestions for reducing this burden to the International Trade Administration Paperwork Reduction Act Program: pra@trade.gov or to Katelynn Byers, ITA PRA Process Administrator: Katelynn.Byers@trade.gov.

Note: A request for applications was posted in a Federal Register Notice on April 17, 2024. If you applied in response to that notice, your application remains valid and is in the review process.

Nominees selected for appointment to the Committee will be notified by mail.

Man K. Cho,
Deputy Director, Office of Energy and Environmental Industries, International Trade Administration.

[FR Doc. 2024-11612 Filed 5-24-24; 8:45 am]

BILLING CODE 3510-DR-P